DEPARTMENT OF EDUCATION

National Advisory Committee on Institutional Quality and Integrity (NACIQI)

AGENCY: Office of Postsecondary Education, National Advisory Committee on Institutional Quality and Integrity, U.S. Department of Education.

ACTION: Announcement of the time and location of the June 18-19, 2014 National Advisory Committee on Institutional Quality and Integrity (NACIQI) meeting.

ADDRESSES: U.S. Department of Education, Office of Postsecondary Education, 1990 K Street NW., Room 8072, Washington, DC 20006.

NACIQI'S Statutory Authority and Function: The NACIQI is established under Section 114 of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

SUMMARY: This meeting notice is an update to the previous notice published in the Federal Register (79 FR 10508), on Tuesday, February 25, 2014. This notice sets forth the time and location for the June 18-19, 2014, meeting of the National Advisory Committee on Institutional Quality and Integrity (NACIQI).

DATES: Meeting Date and Place: The NACIQI meeting will be held on June 18, 2014, from approximately 8:00 a.m. to approximately 5:30 p.m., and on June 19, 2014 from 8:00 a.m. to 5:30 p.m. at the Holiday Inn Capitol, 550 C Street SW., Washington, DC 20024.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

FOR FURTHER INFORMATION CONTACT: Carol Griffiths, Executive Director, NACIQI, U.S. Department of Education, 1990 K Street NW., Room 8073, Washington, DC 20006-8129, telephone: (202) 219-7035, fax: (202) 219-7005, or email: Carol.Griffiths@ed.gov.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Brenda Dann-Messier,
Acting Assistant Secretary for Postsecondary Education.

[FR Doc. 2014-07107 Filed 3-28-14; 8:45 am]

BILLING CODE 4000-01-P